INTERNATIONAL TRADE COMMISSION

[WITC SC-01-024]

Sunshine Act Meeting

AGENCY HOLDING THE MEETING: United States International Trade Commission.

TIME AND DATE: June 29, 2001 at 2:00 p.m.

PLACE: Room 101, 500 E Street SW., Washington, DC 20436, Telephone: (202) 205-2000.

STATUS: Open to the public.

MATTERS TO BE CONSIDERED:

1. Agenda for future meeting: none

2. Minutes

3. Ratification List

4. Inv. Nos. 701-TA-415 and 731-TA-933-934 (Preliminary)(Polyethylene Terephthalate Film, Sheet, and Strip from India and Taiwan)—briefing and vote. (The Commission is currently scheduled to transmit its determination to the Secretary of Commerce on July 2, 2001; Commissioners' opinions are currently scheduled to be transmitted to the Secretary of Commerce July 10, 2001.)

5. Outstanding action jackets: none

In accordance with Commission policy, subject matter listed above, not disposed of at the scheduled meeting, may be carried over to the agenda of the following meeting.

By order of the Commission.
Issued: June 13, 2001.
Donna R. Koehnke,
Secretary.

[FR Doc. 01-15485 Filed 6-15-01; 12:19 pm]

BILLING CODE 7020-02-P